DEPARTMENT OF STATE

[Public Notice 8155]

Advisory Committee on the Secretary of State's Strategic Dialogue With Civil Society

ACTION: Notice of meeting.

SUMMARY: Pursuant to the provisions of the Federal Advisory Committee Act (FACA), the Advisory Committee on the Secretary of State's Strategic Dialogue with Civil Society will convene in Washington, DC on March 12, 2013. The Committee provides advice on the formulation of U.S. policies, proposals, and strategies for engagement with, and protection of, civil society worldwide. The objective of this meeting is to review the progress of the Committee's five subcommittees.

DATES: The meeting will be held on March 12, 2013, from 11:00 a.m. to 12:30 p.m.

ADDRESSES: The meeting will be held at the U.S. Department of State, 2201 C Street NW., Washington, DC The meeting is open to public participation through live stream at http://www.state.gov/s/sacsed/c47725.htm. Closed captioning will be provided.

Written comments may be submitted to Madeleine Ioannou via email to civilsociety@state.gov or facsimile to (202) 647-2413. All comments, including names and addresses when provided, are placed in the record and are available for inspection and copying. The public may inspect comments received at the U.S. Department of State, 2201 C Street NW., Room 6820, Washington, DC 20520. Please call ahead to (202) 647-2413 to facilitate entry into the building.

FOR FURTHER INFORMATION CONTACT: Madeleine Ioannou, Committee Executive Secretary, U.S. Department of State, 2201 C Street NW., Room 6820, Washington, DC 20520; (202) 647-2413; civilsociety@state.gov.

SUPPLEMENTARY INFORMATION: Agenda items to be covered include: (1) Introductions, (2) Presentations by the Chairs of the Subcommittees, (3) Discussion of any Public Submissions, (4) General Discussion, (5) Adjournment. Anyone who would like to bring related matters to the attention of the Committee may file written statements with the Committee staff by sending an email to civilsociety@state.gov.

Dated: January 14, 2013.
Madeleine Ioannou,
Office of the Senior Advisor for Civil Society and Emerging Democracies, U.S. Department of State.

[FR Doc. 2013-01052 Filed 1-17-13; 8:45 am]

BILLING CODE 4710-10-P